DEPARTMENT OF ENERGY

Federal Energy Regulatory Commission

Combined Notice of Filings # 1

December 15, 2006.

Take notice that the Commission received the following electric rate filings:

Docket Numbers: ER98-3564-012

Applicants: FPL Energy Wyman IV LLC

Description: FPL Energy Wyman IV LLC submits a Notice of Change in material Facts by FPL Energy Wyman IV LLC and Request for Waiver of 30-day notice requirement.

Filed Date: 12/06/2006

Accession Number: 20061206-5003

Comment Date: 5 p.m. Eastern Time on Wednesday, December 27, 2006.

Docket Numbers: ER07-43-001

Applicants: Arizona Public Service Company

Description: Arizona Public Service Company request to Revise its Proposed Effective date to January 31, 2007 for its 10/26/06 Notice of Cancellation.

Filed Date: 12/11/2006

Accession Number: 20061208-5071

Comment Date: 5 p.m. Eastern Time on Tuesday, January 02, 2007.

Docket Numbers: ER07-90-001

Applicants: New York State Electric & Gas Corporation

Description: New York State Gas and Electric Corporation submits Supplement to Rate Schedule FERC No. 117.

Filed Date: 12/12/2006

Accession Number: 20061214-0008

Comment Date: 5 p.m. Eastern Time on Friday, December 22, 2007.

Docket Numbers: ER07-91-001

Applicants: New York State Electric & Gas Corporation

Description: New York State Electric and Gas Corporation submits Supplement to Rate Schedule FERC No. 72 .

Filed Date: 12/12/2006

Accession Number: 20061214-0007

Comment Date: 5 p.m. Eastern Time on Friday, December 22, 2007.

Docket Numbers: ER07-225-000

Applicants: Direct Commodities Trading Inc.

Description: Direct Commodities Trading Inc submits its Notice of Cancellation of its FERC Electric Tariff Rate Schedule FERC No. 1.

Filed Date: 11/16/2006

Accession Number: 20061120-0200

Comment Date: 5 p.m. Eastern Time on Tuesday, December 26, 2006.

Any person desiring to intervene or to protest in any of the above proceedings must file in accordance with Rules 211 and 214 of the Commission's Rules of Practice and Procedure (18 CFR § 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-21782 Filed 12-20-06; 8:45 am]

BILLING CODE 6717-01-P